GULF COAST ECOSYSTEM RESTORATION COUNCIL

[Docket No: 112102019-1111-01]

Senior Executive Service Performance Review Board Membership

AGENCY: Gulf Coast Ecosystem Restoration Council (GCERC).

ACTION: Notice of Performance Review Board (PRB) appointments.

SUMMARY: This notice announces the members of the Senior Executive Service (SES) Performance Review Board. The PRB is comprised of a Chairperson and a mix of state representatives and career senior executives that meet annually to review and evaluate performance appraisal documents and provide a written recommendation to the Chairperson of the Council for final approval of each executive's performance rating, performance-based pay adjustment, and performance award.

DATES: The board membership is applicable beginning on 12/01/2019 and ending on 11/30/2020.

FOR FURTHER INFORMATION CONTACT: Mary C. Pleffner, Chief Financial Officer and Director of Assistance, Gulf Coast Ecosystem Restoration Council, telephone 813-394-2185.

SUPPLEMENTARY INFORMATION: In accordance with 5 U.S.C. 4314(c)(4), the persons named below have been selected to serve on the PRB:

Gulf Coast Ecosystem Restoration Council, Scaggs, Benjamin, Executive Director, Ben.scaggs@restorethegulf.gov, (228) 679-5900

Environmental Protection Agency, Banister, Beverly, Deputy Regional Administrator, Region 4, Banister.Beverly@epa.gov, (404) 562-8357

National Oceanic and Atmospheric Administration, Montanio, Patricia A., Director, Office of Habitat Conservation, NOAA/National Marine Fisheries Service, pat.montanio@noaa.gov, (301) 775-9080

State of Alabama, Blankenship, Christopher, Commissioner of Conservation and Natural Resources, chris.blankenship@dcnr.alabama.gov, (334) 242-3486

State of Louisiana, Barnes, Chris, Legal Advisor, Coastal Activities, chris.barnes@la.gov, (225) 342-9036

Keala J. Hughes,
Director of External Affairs & Tribal Relations, Gulf Coast Ecosystem Restoration Council.

[FR Doc. 2019-26885 Filed 12-12-19; 8:45 am]

BILLING CODE 6560-58-P